DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons whose property and interests in property have been unblocked and who have been removed from the SDN List.

DATES: See SUPPLEMENTARY INFORMATION for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On November 20, 2025, OFAC determined that the property and interests in property subject to U.S. jurisdiction of the following persons are unblocked and those persons have been removed from the SDN List.

1. JARRAYA, Mounir Ben Habib (a.k.a. JARRAYA, Mounir Ben Habib Ben Al-Taher; a.k.a. “YARRAYA”), Via Mirasole n.11, Bologna, Italy; Via Ariosto n.8, Casalecchio di Reno, Bologna, Italy; DOB 25 Oct 1963; POB Sfax, Tunisia; nationality Tunisia; Secondary sanctions risk: section 1(b) of Executive Order 13224, as amended by Executive Order 13886; Passport L 065947 issued 28 Oct 1995 expires 27 Oct 2000 (individual) [SDGT].

2. RYABIKOVA, Tatiana (a.k.a. SURDON, Tatiana Ryabikova), France; DOB 24 Jan 1970; nationality France; Gender Female; Secondary sanctions risk: section 1(b) of Executive Order 13224, as amended by Executive Order 13886; Passport 04KH30561 (France) (individual) [SDGT] (Linked To: ARTEMOV, Viktor Sergiyovich).

3. SANTIC, Vladimir; DOB 01 Apr 1958; POB Donja Veceriska, Bosnia-Herzegovina; ICTY indictee (individual) [BALKANS].

(Authority: 31 CFR chapter V.)

Bradley T. Smith,
Director, Office of Foreign Assets Control.

[FR Doc. 2025-23129 Filed 12-16-25; 8:45 am]

BILLING CODE 4810-AL-P